DEPARTMENT OF THE INTERIOR

Bureau of Land Management

[ES-032-0-1430-EU]

Realty Action: Recreation and Public Purpose Act Classification; Mason County, MI

AGENCY: Bureau of Land Management, Interior.

ACTION: Notice of realty action; Recreation and Public Purposes Act (R&PP) classification; Michigan.

SUMMARY: The following public lands near the community of Ludington in Mason County, Michigan have been examined and found suitable for classification for lease or conveyance to the State of Michigan, Department of Natural Resources (DNR), under the provisions of the Recreation and Public Purposes (R&PP) Act of 1926, as amended (43 U.S.C. 869 et seq.). Therefore, in accordance with Section 7 of the Act of June 28, 1934, as amended (43 U.S.C. 315f) and EO 6964, the following described lands are hereby classified as suitable for disposal under the provisions of the R&PP Act of 1926, as amended (43 U.S.C. 869 et seq.) and, accordingly, opened for only that purpose.

Michigan Meridian

T. 19 N., R. 18 W.,

S ½ Lot 1 and Lot 2, Section 7

The above lands aggregate 57.5 acres in Mason County, Michigan.

This action classifies the lands identified above for disposal through the R&PP Act to protect the historic lighthouse and the surrounding lands. The subject land was identified in the Michigan Resource Management Plan Amendment, approved June 30, 1997, as not needed for Federal purposes and having potential for disposal to protect the historic structures and surrounding lands. Lease or conveyance of the land for recreational and public purpose use would be in the public interest. Detailed information concerning this action is available for review at the office of the Bureau of Land Management, Milwaukee Field Office, Wisconsin.

The Michigan DNR has applied for patent to the land under the R&PP Act, as an addition to Ludington State Park.

FOR FURTHER INFORMATION CONTACT: Paul J. Salvatore, Realty Specialist, Bureau of Land Management, Milwaukee Field Office, 310 West Wisconsin Avenue, Suite 450, Milwaukee, Wisconsin 53203, (414) 297-4413.

SUPPLEMENTARY INFORMATION: Pursuant to an Executive Order dated October 16, 1866, public land in Mason County, Michigan was reserved for lighthouse purposes. The Big Sable Lighthouse is located within this parcel on the eastern shore of Lake Michigan near the city of Ludington.

On May 22, 1926, through an Act of Congress, the Secretary of Commerce was authorized to dispose of that portion of the Big Sable lighthouse reservation no longer needed for lighthouse purposes to Mason County, Michigan for public park purposes. The portion of the reservation to be conveyed was described as section 6, lots 1 through 4; section 7, E½, lots 1 through 3; section 18, NE1/4, W½ SE¼ and lot 1; T. 19 N., R. 18 W., Michigan Meridian and comprised 799.62 acres.

The remaining land described as S½ Lot 1 and Lot 2, section 7, T. 19 N., R. 18 W., Michigan Meridian, continued to be reserved by the 1866 Executive Order after 1926. The Department of Transportation, United States Coast Guard has submitted a Notice of Intent (NOI) to relinquish custody, accountability and control of the remaining 57.5 acres. The Bureau of Land Management has recommended that the remaining lands be determined suitable for return to their former status as public lands, such determination to be made by the Secretary of the Interior and accomplished by the issuance of a public land order revoking the Executive Order as to the remaining lands. A proposed public land order for this purpose currently is pending and awaiting action within the Department.

The State of Michigan Department of Natural Resources has applied for patent to the land under the R&PP Act of 1926, as an addition to Ludington State Park.

The lease/patent when issued, will be subject to the following terms, conditions and reservations:

1. Provisions of the Recreation and Public Purposes Act of 1926, as amended, and to all applicable regulations of the Secretary of the Interior.

2. Valid existing rights.

3. All minerals are reserved to the United States, together with the right to prospect for, mine and remove the minerals.

4. Terms and conditions identified through the site specific environmental analysis.

5. Any other rights or reservations that the authorized officer deems appropriate to ensure public access and proper management of Federal lands and interest therein.

Upon publication of this Notice in the Federal Register, the above described lands will be segregated from all forms of disposal or appropriation under the public land laws, except for lease or conveyance under the Recreation and Public Purposes Act and leasing under the mineral leasing laws. For a period of 45 days after issuance of this notice, interested parties may submit comments regarding the proposed conveyance or classification of the lands to the Field Manager, Milwaukee Field Office, Bureau of Land Management, 310 West Wisconsin Avenue, Suite 450, Milwaukee, Wisconsin 53203.

Classification Comments

Interested parties may submit comments involving the suitability of the land for R&PP Act classification, and particularly, whether the land is physically suited for inclusion in the state park, whether the use will maximize future use or uses of the land, whether the use is consistent with local planning and zoning, or if the use is consistent with state and federal programs.

Application Comments

Interested parties may submit comments regarding the specific use proposed in the application, the development plan, the management plan, whether the BLM followed proper administrative procedures in reaching the decision, or any other factor not directly related to the suitability of the land for inclusion in the state park.

Any adverse comments will be evaluated by the State Director who may sustain, vacate, or modify this realty action. In the absence of any adverse comments, the classification will become effective 60 days from the date of publication of this notice in the Federal Register.

Dated: August 1, 2002.
James W. Dryden,
Milwaukee Field Manager.

[FR Doc. 02-21391 Filed 8-21-02; 8:45 am]

BILLING CODE 4310-PN-P